DEPARTMENT OF HEALTH AND HUMAN SERVICES

Administration for Children and Families

Proposed Information Collection Activity; Comment Request

Title: Evaluation of Domestic Victims of Human Trafficking Program

OMB No.: 0970-0487.

Description: The Administration for Children and Families (ACF), U.S. Department of Health and Human Services (HHS) is proposing data collection as part of the study, “Evaluation of the Domestic Victims of Human Trafficking (DVHT) Program.” This Notice addresses the cross-site process evaluation to be conducted with the 13 FY 2016 DVHT projects that were awarded 3-year cooperative agreements by the Office of Trafficking in Persons (OTIP). The intent of the DVHT Program is to build, expand, and sustain organizational and community capacity to deliver trauma-informed, strength-based, and victim-centered services for domestic victims of severe forms of human trafficking through coordinated case management, a system of referrals and the formation of community partnerships.

The objective of the evaluation is to describe the ways in which projects achieve the goals of the DVHT Program and examine types of models that serve victims of human trafficking. Evaluation questions are focused on understanding project and service delivery models, process, and implementation, including partnership and collaboration development; services offered to and received by victims; strategies to identify and engage survivors; ways projects define and monitor program successes and outcomes; and program challenges, achievements, and lessons learned. Information from the evaluation will assist federal, state, and community policymakers and funders in making decisions about future program models to serve domestic victims of human trafficking, as well as to refine evaluation strategies for future programs targeting trafficking victims.

The evaluation of the DVHT Program will document and describe projects' implementation approaches, including their service models and community partnerships; services provided to clients (i.e., victims of severe forms of human trafficking); service delivery practices; strategies to meet survivors' immediate and long-term housing needs; and approaches to engaging survivors in program development and service delivery.

Primary data for the evaluation will be collected via surveys with project directors, case managers, and projects' key community partners; and semi-structured qualitative interviews, including telephone interviews with project directors, in-person interviews with select project staff, survivor leaders, and program partners, and individual interviews with program clients. Interviews from multiple perspectives will enhance the government's understanding of appropriate service models and practice strategies for identifying, engaging, and meeting the needs of diverse populations of victims of severe forms of human trafficking. Data collection will take place after receiving OMB approval through March 2020.

Data collection for an exploratory evaluation of the FY15 DVHT projects (“Domestic Human Trafficking Demonstration Projects”) is being conducted under a prior Information Collection Request under 0970-0487. The data have provided insight into approaches projects used to enhance organizational and community capacity, identify domestic victims, and deliver case management and direct services in collaboration with their community partners. The currently proposed data collection for FY16 DVHT will build on this earlier data collection for the FY15 DVHT study. All data collection approved for FY15 DVHT is complete.

Respondents: Project directors, case managers, survivor leaders, other select project staff, key community partners, and clients.

Total Annual Burden Estimates
Instrument | Total number of respondents | Annual number of respondents | Number of responses per respondent | Average burden hours per response | Annual burden hours
Project Director Survey | 13 | 7 | 1 | .5 | 4
Partner Survey | 260 | 130 | 1 | .25 | 33
Case Manager Survey | 130 | 65 | 1 | .33 | 21
Project Director Interview #1 | 13 | 7 | 1 | 2 | 14
Project Director Interview #2 | 13 | 7 | 1 | 1.5 | 11
Site Visit Interview | 136 | 68 | 1 | 1.5 | 102
Client Interview | 40 | 20 | 1 | 1 | 20

Estimated Total Annual Burden Hours: 205.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street SW, Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2018-05581 Filed 3-19-18; 8:45 am]

BILLING CODE 4184-47-P